DEPARTMENT OF COMMERCE

National Oceanic and Atmospheric Administration

[I.D. 082302C]

Mid-Atlantic Fishery Management Council; Public Meeting

AGENCY: National Marine Fisheries Service (NMFS), National Oceanic and Atmospheric Administration (NOAA), Commerce.

ACTION: Notice of public meeting.

SUMMARY: The Mid-Atlantic Fishery Management Council's (Council) Spiny Dogfish Monitoring Committee will hold a public meeting.

DATES: The meeting will be held on Thursday, September 19, 2002, from 10 a.m. until 4 p.m.

ADDRESSES: This meeting will be held at the Marriott Hotel at BWI Airport, 1743 West Nursery Road, Baltimore, MD, telephone: 410-691-4514.

Council address: Mid-Atlantic Fishery Management Council, Room 2115, 300 S. New Street, Dover, DE 19904.

FOR FURTHER INFORMATION CONTACT: Daniel T. Furlong, Executive Director, Mid-Atlantic Fishery Management Council; telephone: 302-674-2331, ext. 19.

SUPPLEMENTARY INFORMATION: The purpose of this meeting is to review updated fisheries and stock assessment information relative to spiny dogfish and to develop quota and other management measure recommendations for the 2003-2004 fishing year.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Joanna Davis at the Council Office (see ADDRESSES) at least 5 days prior to the meeting date.

Dated: August 26, 2002.
Richard W. Surdi,
Acting Director, Office of Sustainable Fisheries,National Marine Fisheries Service.

[FR Doc. 02-22261 Filed 8-29-02; 8:45 am]

BILLING CODE 3510-22-S